ENVIRONMENTAL PROTECTION AGENCY

[EPA-HQ-OAR-2009-0865; FRL-9150-6]

Agency Information Collection Activities; Proposed Collection; Comment Request; Internet Survey Research for Improving Fuel Economy Label Design and Content; EPA ICR No. 2390.01, OMB Control No. 2060-NEW

AGENCY: Environmental Protection Agency (EPA).

ACTION: Notice.

SUMMARY: In compliance with the Paperwork Reduction Act (PRA) (44 U.S.C. 3501 et seq.), this document announces that EPA is planning to submit a request for a new Information Collection Request (ICR) to the Office of Management and Budget (OMB). Before submitting the ICR to OMB for review and approval, EPA is soliciting comments on specific aspects of the proposed information collection as described below.

DATES: Comments must be submitted on or before June 11, 2010.

ADDRESSES: Submit your comments, identified by Docket ID No. EPA-HQ-OAR-2009-0865 by one of the following methods:

• http://www.regulations.gov: Follow the on-line instructions for submitting comments.

• E-mail: a-and-r-Docket@epa.gov.

• Fax: (202) 566-1741.

• Mail: Environmental Protection Agency, EPA Docket Center (EPA/DC), Air and Radiation Docket, Mail Code 2822T, 1200 Pennsylvania Avenue, NW., Washington, DC 20460, Attention Docket ID No. EPA-HQ-OAR-2009-0865.

• Hand Delivery: Docket Center, (EPA/DC) EPA West, Room B102, 1301 Constitution Ave., NW., Washington, DC, Attention Docket ID No. EPA-HQ-OAR-2009-0865. Such deliveries are only accepted during the Docket's normal hours of operation, and special arrangements should be made for deliveries of boxed information. Such deliveries are only accepted during the Docket's normal hours of operation, and special arrangements should be made for deliveries of boxed information.

Instructions: Direct your comments to Docket ID No. EPA-HQ-OAR-2009-0865. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Roberts French, Compliance and Innovative Strategies Division, Office of Transportation and Air Quality, Environmental Protection Agency, 2000 Traverwood Dr., Ann Arbor, MI 48105; telephone number: (734) 214-4380; fax number: (734) 214-4869; e-mail address: French.Roberts@epa.gov.

SUPPLEMENTARY INFORMATION:

How can I access the Docket and/or submit comments?

EPA has established a public docket for this ICR under Docket ID No. EPA-HQ-OAR-2009-0865, which is available for online viewing at http://www.regulations.gov, or in person viewing at the Air and Radiation Docket and Information Center in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the OAR Docket is 202-566-1742.

Use http://www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Docket ID No. EPA-HQ-OAR-2009-0865.

Affected Entities: Entities potentially affected by this action are randomly selected U.S. citizens. Some screening may be done to ensure that the respondents may have some familiarity with fuel economy and fuel economy labels. For example, respondents could be randomly selected from records of people who have recently purchased a vehicle. Details regarding the specific sampling method concepts are discussed below in section I.B.1.

Title: Focus Group and Internet Survey Research for Improving Fuel Economy Label Design and Content.

ICR Numbers: EPA ICR No. 2390.01, OMB Control No. 2060-NEW.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

I. Description of Information Collection Activities

A. Background

EPA is responsible under the Energy Policy and Conservation Act of 1975 (EPCA) for developing the fuel economy labels that are posted on window stickers of all new light duty cars and trucks sold in the U.S. and, beginning with the 2011 model year, on all new medium-duty passenger vehicles (a category that includes large sport-utility vehicles and passenger vans).

In 2006, EPA updated how the city and highway fuel economy values are calculated to better reflect typical real-world driving patterns and provide more realistic fuel economy estimates. Since then, a projected increase in market penetration of advanced technology vehicles, in particular plug-in hybrid electric vehicles (PHEVs) and electric vehicles (EVs), will require new label metrics to effectively communicate information to consumers. EPA projects an increase in the near future in the market penetration of advanced technology vehicles like PHEVs and EVs. These vehicles run on electricity obtained from the grid in addition to gasoline, and therefore their fuel consumption cannot be precisely conveyed by the current miles-per-gallon (MPG) metric.

As part of its ongoing responsibilities under EPCA, EPA sought public comments in the “Proposed Rulemaking to Establish Light-Duty Vehicle Greenhouse Gas Emission Standards and Corporate Average Fuel Economy Standards” (September 28, 2009; 74 FR 49454, at 49576) on issues surrounding consumer vehicle labeling of conventional gasoline vehicles in general and labeling of advanced technology vehicles in particular. At that time, EPA announced plans to initiate a separate rulemaking to explore in detail the information displayed on the current fuel economy label and requested comments on providing relevant information to consumers, including adding information regarding fuel economic such as consumption in fuel use. EPA also requested comments on approaches to providing information about a vehicle's greenhouse gas emissions.

Recently, the 2007 Energy Independence and Security Act (EISA) introduced additional new labeling requirements that are to be implemented by the National Highway Traffic Safety Administration (NHTSA). In the same proposed rulemaking as EPA (September 28, 2009; 74 FR 49454, at 49739), NHTSA also requested comments on how it should undertake its new labeling responsibilities.

To maximize regulatory efficiency, minimize the burden on manufacturers and provide the best information possible to American consumers, EPA and NHTSA are conducting a joint rulemaking to redesign the current fuel economy label. The primary purposes of this regulatory action are: (1) To design new fuel economy labels that are consistent with the EISA requirements in 40 U.S.C. 32908(g), (2) to develop labels that address the unique nature of advanced technology vehicles that use electricity and gasoline, and (3) to propose adding some new information and changing the overall look of all fuel economy labels for all conventional vehicles (while continuing to meet the statutory requirements in EPCA).

These purposes all fall under an overarching goal of better informing consumers about the fuel consumption, fuel costs, and environmental impacts associated with new vehicles at both the point of purchase and while conducting pre-purchase research. Specifically, the re-designed labels will need to meet the requirements defined by 49 U.S.C. 32908(b) and 32908(g) as detailed below.

EPA's statutory labeling requirements are found in 49 U.S.C. 32908(b) and require that the label contain:

• The fuel economy of the automobile.

• The estimated annual fuel cost of operating the automobile.

• The range of fuel economy of comparable automobiles of all manufacturers.

• A statement that a booklet is available from the dealer to assist in making a comparison of fuel economy of other automobiles manufactured by all manufacturers in that model year.

• The amount of the automobile fuel efficiency tax imposed on the sale of the automobile under section 4064 of the Internal Revenue Code of 1986 (26 U.S.C. 4064).

• Other related information required or authorized by the EPA Administrator NHTSA's statutory labeling requirements are found in 49 U.S.C. 32908(g) and additionally require:

• Information on a vehicle's performance over its useful life with respect to:

• Fuel economy.

• Greenhouse gas (GHG) emissions.

• Other emissions.

• The creation of a rating system for consumers to easily compare, at the point of purchase, vehicles' fuel economy, GHG emissions, and other emissions, including designations of the vehicles with:

• Lowest GHG emissions over the useful life of the vehicles.

• Highest fuel economy.

To help the agencies develop a joint label that meets the statutory requirements as well as the policy objectives outlined above, EPA is conducting voluntary focus groups and an Internet survey over the course of developing the rulemaking to solicit information from a diverse group of consumers regarding what information displayed on the fuel economy label will best serve the intended purpose of providing consumers with useful and meaningful information about the fuel efficiency of the vehicles they are considering purchasing.¹ EPA is in the process of conducting three “phases” of focus groups. Each phase has a different concentration, enabling us to test consumer comprehension of and reaction to different fuel economy, cost, and environmental information and label displays. The result of these focus groups, when combined, will increase EPA and NHTSA's understanding of which potential label metrics, information and overall label displays present the required information in a more understandable and compelling manner.

¹ See 74 FR 63149, December 2, 2009, for EPA's initial Notice for Proposed Collection and Comment Request regarding the ICR for these activities.

The first focus group (conducted under ICR Number 2343.01) aimed to test consumer understanding and use of the current fuel economy label and the importance of various information elements on today's label. This phase also assessed consumer reactions to the introduction of new information on future labels for conventionally fueled vehicles. Specifically, consumers were asked to consider various presentations of fuel economy and fuel consumption, fuel cost, environmental performance, and other factors. The second phase (conducted under ICR Number 2343.02) focused on determining what information is most important and helpful on labels for advanced technology vehicles and how that information is best presented. Specifically, the second focus group tested what metrics (fuel economy and fuel consumption, fuel cost, environmental performance, etc.) are most appropriate for electric vehicles, extended-range electric vehicles, and plug-in hybrid electric vehicles and how the labels can best inform consumers of the fact that vehicle fuel consumption and efficiency depends significantly on how the vehicles are used. The third phase of focus group research, currently in the planning stages, will ask consumers to assist in developing the most effective and compelling presentation for the overall label, ensuring that all options tested include elements meeting all EPCA and EISA statutory requirements. This notice requests comment on the Internet survey as described in section I.B. below.

The upcoming joint EPA/NHTSA notice of proposed rulemaking will propose a collection of label designs for consideration and public comment. These designs will be based largely on the focus group research. Following conclusion of the focus group research, EPA will conduct an Internet-based survey to test the label designs developed and tested in the focus groups with a broader audience. This notice discusses the potential survey sampling methods, survey question types, and broad content. As described below, EPA is seeking comments on the outlined approach for the Internet survey.

B. Internet Survey

The goals of the Internet survey are to examine how understandable the new label designs are, and whether the new labels will improve consumers' abilities to select more fuel-efficient vehicles. It will test these questions for both conventional and advanced technology vehicles.

1. Sampling Method

Based on OMB guidance, this study plans to use two convenience samples: Self-selected U.S. new vehicle purchasers and people who have expressed an intention to purchase a new vehicle by requesting a price quote from a dealer. Because the study is not a probability-based sample, it may not yield estimates representative of the target population, new vehicle buyers. However, even if the results are not representative of the population, the agencies believe that the study design will provide quantitative estimates of differences in consumer responses between various test conditions, and it may be possible to adjust results to reflect differences between the respondents and the target population.

These samples will be divided into a number of separate groups (the number of groups depends on the number of label designs being tested). One version of the online survey will be developed for each group, identical in every way except that each of the groups will see only one of the label designs to be tested. To estimate the burden of this information collection we are assuming approximately 500 respondents for each label being tested, and a maximum of 12 different label designs (consisting of 3 overall labels with 4 unique associated labels to address (1) gasoline, (2) electric, (3) plug-in hybrid, and (3) extend-range plug-in hybrid vehicle needs), thus resulting in a potential maximum of 6,000 respondents.

To test respondents' understanding of the labels, each respondent will be shown a series of paired labels. In each pair, all vehicle characteristics will be held constant except the metric whose understanding is being tested. For instance, the fuel economy of the vehicles may differ, or one may be a conventional vehicle and one an electric vehicle. The consumer will then be asked to identify which vehicle has a better rating for the metric being tested. For instance, the consumer would be asked which vehicle has better fuel economy, or is less expensive to drive for a short distance. If one group scores more highly in answering these questions correctly, then the label associated with that group will appear to be more understandable than the other labels.

To test the influence of the labels, respondents will face similar pairs of labels for vehicles with all vehicle attributes constant except those varied on the label. Instead of identifying the label that has the better metric, the respondent would be asked which of these vehicles she would prefer to buy. Comparisons will involve both conventional and advanced technology vehicles. Respondents may be asked to decide based not only on metrics, but also on price differences. For instance, a respondent may see a vehicle with better fuel economy but a higher purchase price. Because the survey will collect respondents' demographic and commute-pattern information, it will be possible to assess whether the commuter chose the vehicle that had lower costs for her commute.

For both these areas of study, the use of discrete-choice questions is intended to reduce both the time burden on respondents and the potential for respondents to manipulate results through strategic responses to questions.

2. Methods To Maximize Response Rate and Deal With Non-Response

We will use a number of approaches to increase the response rate and minimize potential non-response bias. These methods will include:

• Optimizing the questionnaire length and question types to strike the right balance between obtaining the necessary information and ensuring the questionnaire is not burdensome. The target length for the survey is 15 minutes.

• Interviewing five representative respondents using cognitive interview techniques in order to identify areas of misunderstanding, improved question wording, and areas of potential length reduction.

• Pre-testing the survey with a sample of 50 representative respondents to ensure that the survey programming functions as planned and that the data is stored in a way that allows for in-depth data analysis.

• Ensuring anonymity of respondent data by keeping any identifying information in a separate file from survey question responses. Appropriate procedures will be enacted to prevent unauthorized access to respondent data and by preventing disclosure of the responses of individual participants.

• Providing respondents with the primary investigator's contact information so that they can ask any questions regarding the questionnaire.

• Monitoring the response rate daily and address any issues daily in order to increase the response rate and reduce burden to respondents.

II. Burden Statement

The public reporting and recordkeeping burden for the Internet online survey collection of information is estimated to average 20 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 6000.

Frequency of response: One time.

Estimated total average number of responses for each respondent: 1.

Estimated total annual burden hours: 2080 hours.

Estimated total annual burden costs: $61,152.

What is the next Step in the process for this ICR?

EPA will consider the comments received. The final ICR package for the online Internet survey will be submitted to OMB for review and approval pursuant to 5 CFR 1320.12. If you have any questions about this ICR or the approval process, please contact the technical person listed under FOR FURTHER INFORMATION CONTACT.

Dated: May 6, 2010.
Margo T. Oge,
Director, Office of Transportation and Air Quality.

[FR Doc. 2010-11294 Filed 5-11-10; 8:45 am]

BILLING CODE 6560-50-P